ENVIRONMENTAL PROTECTION AGENCY

40 CFR Part 271

[FRL-7412-7]

New Jersey: Proposed Authorization of State Hazardous Waste Program Revision

AGENCY: Environmental Protection Agency.

ACTION: Proposed rule.

SUMMARY: Pursuant to the Resource Conservation and Recovery Act, as amended, 42 U.S.C. 6901 et seq. (“RCRA”), and the regulations thereunder, the State of New Jersey (the “State”) applied for final authorization of changes to its hazardous waste program. These revisions were adopted by the State in January 1999. The Environmental Protection Agency, Region 2 (“EPA”) has reviewed the State's application and has determined that the State's revisions to its hazardous waste program satisfy all of the requirements necessary to qualify for final authorization. Accordingly, EPA proposes to grant final authorization to the State for these revisions, which are described in the “Rules and Regulations” section of today's Federal Register. In that section, EPA is authorizing the revisions by an immediate final rule. EPA did not publish a proposal prior to the immediate final rule because EPA believes that this action is not controversial and does not expect comments that oppose it. EPA has explained the reasons for this authorization in the preamble to the immediate final rule. Unless EPA receives written comments which oppose this authorization during the comment period, the immediate final rule will become effective on the date set forth therein, and EPA will not take further action on this proposal. If EPA receives comments that oppose this action, EPA shall withdraw the portion of the immediate final rule that is the subject of the comments, and it will not take effect.

EPA shall then respond to those public comments opposing this authorization in a second final authorization notice. This second final notice may or may not include changes based on comments received during the comment period. Interested persons may not have another opportunity for comment. Therefore, if you want to comment on this proposal, you must do so at this time.

DATES: Comments on this action must be received by the close of business on January 15, 2003.

ADDRESSES: Written comments should be sent to Walter M. Mugdan, Director, Division of Environmental Planning and Protection, U.S. EPA, Region 2, 290 Broadway, New York, New York 10007-1866, (212) 637-3724. For further information contact Clifford Ng, Division of Environmental Planning and Protection, USEPA, Region 2, 290 Broadway (22nd Floor) New York, NY 10007-1866; telephone (212) 637-4113; E-mail—ng.clifford@epamail.epa.gov.

Copies of the State's application for authorization are available for inspection and copying as follows:

The New Jersey Department of Environmental Protection (“NJDEP”)

Address: Public Access Center, NJDEP, 401 East State Street, 1st Floor, Trenton, NJ 08625.

Hours: Monday through Friday (excluding holidays), 8:30 a.m.-1 pm., 2 p.m.-4:30 p.m.

Telephone: (609) 777-3373.

EPA

Address: EPA Library, 16th Floor, 290 Broadway, New York, NY 10007-1866.

Hours: Monday through Thursday (excluding holidays), 9 a.m.-4:30 p.m. Friday (excluding holidays), 9 a.m.-1 p.m.

Telephone: (212) 637-3185.

FOR FURTHER INFORMATION CONTACT: Clifford Ng, (212) 637-4113.

SUPPLEMENTARY INFORMATION: For additional information, please see the immediate final rule published in the “Rules and Regulations” section of today's Federal Register.

Dated: October 28, 2002.
William J. Muszynski,
Deputy Regional Administrator, Region II.

[FR Doc. 02-31014 Filed 12-13-02; 8:45 am]

BILLING CODE 6560-50-P